DEPARTMENT OF TRANSPORTATION

Pipeline and Hazardous Materials Safety Administration

Hazardous Materials: Notice of Applications for Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before February 20, 2018.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with part 107 of the Federal hazardous materials transportation law (49 U.S.C. 5117(b); 49 CFR 1.53(b)).

Issued in Washington, DC, on January 12, 2018.
Donald Burger,
Chief, General Approvals and Permits Branch.

Application No. | Applicant | Regulation(s) affected | Nature of the special permits thereof
SPECIAL PERMITS DATA—Granted
11932-M | THE BOEING COMPANY | 173.168(b), 173.168(d), 173.168(d)(1)(i), 173.168(f)(2)(ii) | To modify the special permit to authorize additional designs of modified aircraft subassemblies containing oxygen generators.
14768-M | TOBIN & SONS MOVING & STORAGE, INC | 173.196(a), 173.196(b), 173.199, 178.609 | To modify the special permit to adjust the allowable temperature range and other editorial corrections.
15867-M | FIBA TECHNOLOGIES, INC | 180.501(b), 180.505, 180.509(d)(1), 180.509(f)(1), 180.519(a), 180.519(b) | To modify the special permit to authorize individual tubes in a bundle to be equipped with pressure relief devices, remove invalid CGA C-23 references to 107A tubes, and to clarify test procedures and subsequent tube marking.
20232-M | LEIDOS BIOMEDICAL RESEARCH, INC | 173.196, 178.503(f), 178.609 | To modify the special permit to authorize an additional Division 6.1 material.
20356-M | TESLA, INC | 172.101(j) | To modify the special permit to authorize an increase in the number of cells which make up a battery module. (mode 4)
20370-N | AMERICAN HONDA MOTOR CO., INC | 173.301(a)(1) | To authorize the transportation in commerce of hydrogen, compressed in non-DOT specification carbon fiber composite tanks.
20381-N | WESTERN INTERNATIONAL GAS & CYLINDERS, INC | 172.101 | To authorize the transportation in commerce of limited quantities of acetylene not dissolved in a solvent.
20396-N | DIGITAL WAVE CORPORATION | 180.205(g) | To authorize the requalification of tanks manufactured under DOT-SP 14951 and 14402 using modal acoustic emission (MAE) test method.
20504-N | A123 SYSTEMS LLC | 172.101(j), 173.185(b) | To authorize the transportation in commerce of lithium ion batteries in excess of 35 kg net weight by cargo-only aircraft.
20527-N | PROCYON-ALPHA SQUARED, INC | 172.400, 172.102(c)(1), 172.200, 172.300, 173.159a(c)(2), 173.185(c)(1)(iii), 173.185(c)(1)(iv), 173.185(c)(1)(v), 173.185(c)(3) | To authorize the manufacture, mark, sale, and use of non-DOT specification fiberboard boxes for the transportation in commerce of certain batteries without shipping papers, marking of the proper shipping name and identification number or labeling, when transported for recycling or disposal.
20531-N | GENERAL ATOMICS | 172.101(j), 173.185(a) | To authorize the transportation in commerce of low production lithium batteries in excess of 35 kg by cargo-only aircraft.
20543-N | SODASTREAM USA, INC | 172.301(c), 180.209 | To authorize the transportation in commerce of certain cylinders that are authorized to be requalified every 10 years.
20547-N | FISHER SCIENTIFIC COMPANY LLC | 173.158(e) | To authorize the one time transportation of nitric acid without tightly closed intermediate inner packagings cushioned with an absorbent material.
20548-M | CONSUMER PRODUCT SAFETY COMMISSION, UNITED STATES | 173.22(a)(4)(i), 173.22(a)(4)(i)(ii), 173.24(f)(2) | To modify the special permit initially issued on an emergency basis and make it permanent.
20550-N | NORTHSTAR TREKKING | 172.101(j), 172.200, 172.204(c)(3), 172.300, 173.27(b)(2), 175.30(a)(1), 175.75 | To authorize the transportation in commerce of certain hazardous materials which are forbidden for transportation by air or exceed quantity limitations, to be transported by cargo aircraft within the State of Alaska when other means of transportation are impracticable or not available.
20586-M | HAZ-MAT RESPONSE, INC |  | To authorize the transportation in commerce of non-DOT specification cylinders for a limited distance to safely analyze the contents and prepare for shipment in accordance with the HMR.
20587-N | SILK WAY WEST AIRLINES MMC | 172.101(j), 172.204(c)(3), 173.27, 175.30(a)(1) | To authorize the transportation in commerce of explosives by cargo only aircraft in amounts forbidden by the regulations.
20589-N | KALITTA AIR, L.L.C | 172.101(j), 172.204(c)(3), 173.27(b)(2), 173.27(b)(3), 175.30(a)(1) | To authorize the transportation in commerce of certain explosives which are forbidden by cargo only aircraft.
20590-N | TROY MANUFACTURING CO., INC | 173.306(a)(3)(v) | To authorize the manufacture mark sale and use of DOT Specification 2P nonrefillable aluminum cans with inner aluminum/PET laminate bags containing a Class 3 material.
SPECIAL PERMITS DATA—Denied
11516-M | CHEMTRONICS INC | 172.200, 172.400, 172.500, 173.304a(a), Part 174, Part 177 | To modify the special permit to authorize additional 2.1 hazmat to be transported.
SPECIAL PERMITS DATA—Withdrawn
20583-N | SPORT WADE INC | 180.209(a) | Request for facility registration to re-qualify cylinders by visual inspection method only.

[FR Doc. 2018-00807 Filed 1-17-18; 8:45 am]

BILLING CODE 4901-60-P